MILLENNIUM CHALLENGE CORPORATION

[MCC FR 17-01]

Millennium Challenge Corporation Advisory Council Notice of Open Meeting

AGENCY: Millennium Challenge Corporation.

ACTION: Notice.

SUMMARY: In accordance with the requirements of the Federal Advisory Committee Act, 5 U.S.C.—App., the Millennium Challenge Corporation (MCC) Advisory Council was established as a discretionary advisory committee on June 14, 2016 to serve MCC in a solely advisory capacity and provide insight regarding innovations in infrastructure, technology and sustainability; perceived risks and opportunities in MCC partner countries; new financing mechanisms for developing country contexts; and shared value approaches. The Advisory Council provides a platform for systematic engagement with the private sector and other external stakeholders and contributes to MCC's mission—to reduce poverty through sustainable, economic growth.

Time and Place: Thursday, April 20, 2017 from 8:30 a.m.-1:45 p.m. which includes a working lunch. The meeting will be held at the Millennium Challenge Corporation 1099 14th St. NW., Suite 700, Washington, DC 20005.

Agenda: During the spring 2017 meeting of the MCC Advisory Council, members will discuss ways MCC can continue to bolster its relationship with the private sector and provide advice on MCC's Compact program in Côte d'Ivoire.

Public Participation: The meeting will be open to the public. Members of the public may file written statement(s) before or after the meeting. If you plan to attend, please submit your name and affiliation no later than Wednesday, April 12 to MCCAdvisoryCouncil@mcc.gov to be placed on an attendee list.

For Further Information Contact: For further information, contact Beth Roberts at MCCAdvisoryCouncil@mcc.gov or 202-521-3600 or visit https://www.mcc.gov/about/org-unit/advisory-council.

Exceptional Circumstance: Pursuant to 41 CFR 102-3.150, the notice for this meeting is given less than 15 calendar days prior to the meeting because of an administrative exceptional circumstance. Given the urgency of the events, the Advisory Council deems it important to meet on the date given.

Thomas G. Hohenthaner,
VP/General Counsel and Corporate Secretary (Acting), Millennium Challenge Corporation.

[FR Doc. 2017-06966 Filed 4-6-17; 8:45 am]

BILLING CODE 9211-03-P